DEPARTMENT OF COMMERCE

National Oceanic and Atmospheric Administration

50 CFR Part 300

[Docket No. 250430-0075]

RIN 0648-BN29

International Fisheries; Pacific Tuna Fisheries; 2025-2026 Commercial Fishing Restrictions for Pacific Bluefin Tuna in the Eastern Pacific Ocean

AGENCY: National Marine Fisheries Service (NMFS), National Oceanic and Atmospheric Administration (NOAA), Commerce.

ACTION: Final rule.

SUMMARY: NMFS is issuing regulations under the Tuna Conventions Act of 1950, as amended, to implement Inter-American Tropical Tuna Commission (IATTC) Resolution C-24-02 (Measures for the Conservation and Management of Bluefin Tuna in the Eastern Pacific Ocean) adopted by the IATTC in September 2024. This rule implements annual catch and trip limits on United States commercial catch of Pacific bluefin tuna (Thunnus orientalis; PBF) in the eastern Pacific Ocean (EPO) for 2025-2026. This action is necessary to conserve PBF and for the United States to satisfy its obligations as a member of the IATTC. NMFS prepared an Environmental Assessment and Finding of No Significant Impact for this action.

DATES: This rule is effective June 5, 2025.

ADDRESSES: Copies of supporting documents that were prepared for the proposed rule, including the Environmental Assessment, Finding of No Significant Impact, and Regulatory Impact Review, are available via the Federal e-Rulemaking Portal: https://www.regulations.gov/docket/NOAA-NMFS-2024-0146.

FOR FURTHER INFORMATION CONTACT: Karter Harmon, NMFS, (562) 833-8324, Karter.Harmon@noaa.gov.

SUPPLEMENTARY INFORMATION: On December 30, 2024, NMFS published a proposed rule in the Federal Register (89 FR 106400) to implement Resolution C-24-02 (Measures for the Conservation and Management of Bluefin Tuna in the Eastern Pacific Ocean) adopted by the IATTC in September 2024. The proposed rule contains additional background information, including information on the IATTC and its Convention Area, the international obligations of the United States as an IATTC member, and the need for regulations. The 30-day public comment period for the proposed rule closed on January 29, 2025. NMFS received no comments on the proposed rule or supporting documents.

IATTC PBT Resolutions

The IATTC has adopted PBF catch limits in the IATTC Convention Area since 2012. The IATTC Convention Area is defined as waters of the EPO within the area bounded by the west coast of the Americas and by 50° N latitude, 150° W longitude, and 50° S latitude. For more information about previous management measures, see the final rules implementing Resolution C-14-06 (80 FR 38986, July 8, 2015), Resolution C-16-08 (82 FR 18704, April 21, 2017), Resolutions C-18-01 and C-18-02 (84 FR 18409, May 1, 2019), Resolution C-20-02 (86 FR 16303, March 29, 2021), and Resolution C-21-05 (87 FR 47939, August 05, 2022).

At its 102nd Meeting in September 2024, the IATTC adopted Resolution C-24-02, which establishes catch limits consistent with the 2024 Joint IATTC-NC Working Group on Pacific Bluefin Tuna Management (JWG) recommendation and contains catch increases for the United States. The 2025-2026 biennial catch limit for the United States established in C-24-02 was 1,822 mt, not to exceed 1,285 mt in any one year. The catch and trip limits in this rulemaking represent approximately an 80 percent increase over the most recent (i.e., 2022-2024) management regime for the United States (87 FR 47939, August 5, 2022). This is based on a recent 2024 stock assessment and subsequent NMFS status determinations determining the PBF stock in the EPO is not experiencing overfishing and is no longer overfished.

As in previous resolutions, an IATTC member may add to the new catch limit any under-harvest from the previous catch limit in an amount not to exceed 5 percent of the last biennial catch limit. In this case, the United States may add up to 5 percent of 1,017 mt (i.e., 50.85 mt) from 2023-2024 to the 2025-2026 biennial catch limit. From Pacific Fisheries Information Network reports, U.S. commercial vessels caught 316.5 mt of PBT in 2023-2024. Therefore, the under-harvest from the previous biennial catch limit far exceeds 5 percent. NMFS has added 5 percent of the last biennial catch limit (50.85 mt) to the 2025-2026 biennial catch limit. Therefore, the final 2025-2026 biennial catch limit is 1,872.85 mt.

Regulations for PBT for 2025-2026

Consistent with recommendations from the Pacific Fishery Management Council and its advisory bodies, this rule establishes trip limits for 2025 and 2026 while maintaining an adaptive management approach. The intent behind these trip limits is to encourage U.S. vessel owners and operators to fully utilize the U.S. catch limit while allowing ample opportunity for multiple gear types. Trip limits adjust seasonally, with the intent to ensure a portion of the annual catch limit remains available to smaller-volume gear types throughout the year. The annual catch and trip limits are described in detail below.

PBF Management Regime for 2025-2026

The annual catch limit for 2025 is 1,285 mt. The annual catch limit for 2026 is the total cumulative catch in 2025 subtracted from the biennial limit, not to exceed 1,285 mt. The initial trip limit for both 2025 and 2026 is 60 mt and adjusts as follows:

January-June:

• The trip limit decreases to 40 mt if the total catch is within 400 mt of the annual limit.

• The trip limit decreases to 5 mt if the total catch is within 225 mt of the annual limit.

July-September:

• The trip limit decreases to 40 mt if the catch is within 300 mt of the annual limit.

• The trip limit decreases to 5 mt if the total catch is within 175 mt of the annual limit.

October-December:

• The trip limit decreases to 40 mt if the catch is within 200 mt of the annual limit.

• The trip limit decreases to 5 mt if the total catch is within 125 mt of the annual limit.

Under the terms of this rule, NMFS will announce the 2026 annual limit in a notice published in the Federal Register in January or early February 2026. This notice will also be posted on the NMFS website: https://www.fisheries.noaa.gov/west-coast/sustainable-fisheries/pacific-bluefin-tuna-commercial-harvest-status.

Landing Receipt Submission Deadlines

Under California law and regulations, electronic landing receipts (i.e., e-tickets) for landings in California are required to be submitted to the California Department of Fish and Wildlife (CDFW) within 3 business days (see California Fish and Game Code section 8046 and 14 California Code of Regulations sec. 197). Under current Federal regulations (see 50 CFR 300.25(g)(9)), if landing PBF in California, fish landing receipts must be submitted within 24 hours to CDFW. This rule maintains this requirement.

In-Season Action Announcements

Under this rulemaking, NMFS will use available fishery information (i.e., landing receipts) to estimate when the overall catch is expected to reach thresholds at which the agency would reduce the trip limit. NMFS will then make decisions on in-season actions to reduce the trip limit or close the fishery based on those estimates.

Under current Federal regulations (see 50 CFR 300.25(g)(8)), if an in-season action taken under paragraphs is based on an overestimate of actual catch, NMFS will reverse that action in the timeliest possible manner, provided NMFS finds that reversing that action is consistent with the management objectives for the affected species. This rule maintains that requirement.

Under current Federal regulations (see 50 CFR 300.25(g)(7)), NMFS posts a notice on the NMFS website announcing in-season actions to reduce trip limits or close the fishery (https://www.fisheries.noaa.gov/west-coast/sustainable-fisheries/pacific-bluefin-tuna-commercial-harvest-status). In-season actions to reduce trip limits or close the fishery are also announced by email to vessel owners and published in the Federal Register as soon as practicable. In-season actions are effective upon the earlier of either receipt by email of such notice or publication in the Federal Register. This rule maintains these announcement procedures.

In 2025-2026, if NMFS determines based on landing receipts or other available information that cumulative catch is expected to meet any of the thresholds described above, an intermediate or lower trip limit will be imposed by NMFS using the in-season action procedures described above. Upon the effective date of an in-season action to change trip limits, targeting, retaining on board, transshipping, or landing PBF in the Convention Area in violation of the in-season action will be prohibited, with the exception that any PBF already on board a fishing vessel on the effective date of the notification of in-season action may be retained on board and landed or transshipped within 24 hours after the effective date of the notice, to the extent authorized by applicable laws and regulations. If NMFS determines in 2025 or 2026 that the annual catch limits are expected to be reached, NMFS will close the fishery effective upon the date provided in the notification. The exception allowing any PBF already on board a fishing vessel on the effective date of the notice to be retained, landed, or transshipped will apply, provided they are landed or transshipped within 14 days after the closure date, to the extent authorized by applicable laws and regulations.

Catch Reporting

Under this rulemaking, NMFS will continue to provide updates on PBF catches in the IATTC Convention Area to the public via the NMFS website: https://www.fisheries.noaa.gov/west-coast/sustainable-fisheries/pacific-bluefin-tuna-commercial-harvest-status. NMFS will update the website as long as the updates do not disclose confidential information. These updates are intended to help participants in the U.S. commercial fishery plan for reduced trip limits and attainment of annual limits.

Classification

Tuna Conventions Act

The NMFS Assistant Administrator has determined that this rule is consistent with the Tuna Conventions Act and other applicable laws.

Executive Order 12866

This rule has been determined to be not significant for purposes of Executive Order 12866.

Executive Order 14192

This rule is not an Executive Order 14192 regulatory action because this action is not significant under Executive Order 12866.

National Environmental Policy Act

In view of the information presented in this document and the analysis contained in the supporting Environmental Assessment prepared for the proposed rule, NMFS determined that this action will not significantly impact the quality of the human environment. The Final Programmatic Environmental Assessment to Revise U.S. Commercial Fishing Regulations for Pacific Bluefin Tuna in the Eastern Pacific Ocean, and the Finding of No Significant Impact are available from NMFS (see ADDRESSES).

Regulatory Flexibility Act

Pursuant to the Regulatory Flexibility Act, 5 U.S.C. 605(b), The Chief Counsel for Regulation of the Department of Commerce certified to the Chief Counsel for Advocacy of the Small Business Administration during the proposed rule stage that this action would not have a significant economic impact on a substantial number of small entities. The factual basis for the certification was published in the proposed rule (89 FR 106400, December 30, 2024) and is not repeated here. No comments were received regarding this certification. As a result, a regulatory flexibility analysis was not required and none was prepared.

Paperwork Reduction Act

This rule does not contain a change to a collection of information requirement for purposes of the Paperwork Reduction Act of 1995 (PRA). The existing collection of information requirements will continue to apply under the following OMB Control Number(s): 0648-0778, Reporting and Notification Requirements in West Coast PBF Fishery.

Notwithstanding any other provision of the law, no person is required to respond to, nor shall any person be subject to a penalty for failure to comply with, a collection of information subject to the requirements of the PRA, unless that collection of information displays a currently valid OMB Control Number.

Executive Order 13175

NMFS has determined that this action will not have a substantial direct effect on one or more Indian Tribes, on the relationship between the Federal Government and Indian Tribes, or on the distribution of power and responsibilities between the Federal Government and Indian Tribes; therefore, consultation with Tribal officials under Executive Order 13175 is not required, and the requirements of sections (5)(b) and (5)(c) of Executive Order 13175 also do not apply. A Tribal summary impact statement under section (5)(b)(2)(B) and section (5)(c)(2)(B) of Executive Order is not required and has not been prepared.

List of Subjects in 50 CFR Part 300

Administrative practice and procedure, Fish, Fisheries, Fishing, Marine resources, Reporting and recordkeeping requirements, Treaties.

Dated: April 30, 2025.
Samuel D. Rauch III,
Deputy Assistant Administrator for Regulatory Programs, National Marine Fisheries Service.

For the reasons set out in the preamble, NMFS amends 50 CFR part 300 as follows:

PART 300—INTERNATIONAL FISHERIES REGULATIONS

1. The authority citation for part 300, subpart C, continues to read as follows:

Authority: 16 U.S.C. 951 et seq.

2. In § 300.24, revise paragraph (u) to read as follows:

§ 300.24 Prohibitions.

* * * * *

(u) Use a United States commercial fishing vessel in the Convention Area to target, retain on board, transship, or land Pacific bluefin tuna in contravention of § 300.25(g).

* * * * *

3. In § 300.25, revise paragraph (g) to read as follows:

§ 300.25 Fisheries management.

* * * * *

(g) Pacific bluefin tuna (Thunnus orientalis) commercial catch limits, reporting requirements, and in-season action procedures—(1) Biennial catch limit for 2025-2026. The biennial catch limit for 2025-2026 is 1,872.85 metric tons.

(2) Annual catch and trip limits for 2025. For the calendar year 2025, all commercial fishing vessels of the United States combined may capture, retain, transship, or land no more than 1,285 metric tons. A 60 mt trip limit will be in effect until the following criteria are met:

If the time of year is . . . | And NMFS anticipates cumulative catch will be . . . | Then the trip limit will be . . .
(i) January through June | 885 mt | 40 mt.
| 1,060 mt | 5 mt.
(ii) July through September | 985 mt | 40 mt.
| 1,110 mt | 5 mt.
(iii) October through December | 1,085 mt | 40 mt.
| 1,160 mt | 5 mt.

(3) Annual catch and trip limits for 2026. For the calendar year 2026, all commercial fishing vessels of the United States combined may capture, retain, transship, or land no more than the amount caught in 2025 subtracted from the biennial limit, not to exceed 1,285 metric tons.

(i) If the 2026 catch limit is more than 200 metric tons, a 60-metric ton trip limit will be in effect until the following criteria are met:

If the time of year is . . . | And NMFS anticipates cumulative catch will be within . . . | Then the trip limit will be . . .
(A) January through June | 400 mt of the annual limit | 40 mt.
| 225 mt of the annual limit | 5 mt.
(B) July through September | 300 mt of the annual limit | 40 mt.
| 175 mt of the annual limit | 5 mt
(C) October through December | 200 mt of the annual limit | 40 mt.
| 125 mt of the annual limit | 5 mt.

(ii) If the 2026 catch limit is 200 metric tons or less, the trip limit will be 5 metric tons for the entire calendar year.

(4) In-season actions for trip limits and closure of the fishery. If NMFS determines that action to change a trip limit needs to be taken under paragraph (g)(2) or (3) of this section, the revised trip limit will be effective upon the date provided in a notification of in-season action in accordance with paragraph (g)(5) of this section. Upon the effective date of an in-season action to change trip limits under paragraph (g)(2) or (3) of this section, targeting, retaining on board, transshipping, or landing Pacific bluefin tuna in the Convention Area in violation of the in-season action shall be prohibited, with the exception that any Pacific bluefin tuna already on board a fishing vessel on the effective date of the notification of in-season action may be retained on board and landed or transshipped within 24 hours after the effective date of the notice, to the extent authorized by applicable laws and regulations. After NMFS determines that the annual catch limits under paragraph (g)(2) or (3) of this section are expected to be reached, NMFS will close the fishery effective upon the date provided in the notification in accordance with paragraph (g)(5) of this section. Upon the effective date in the notification, targeting, retaining on board, transshipping, or landing Pacific bluefin tuna in the Convention Area shall be prohibited through the end of the calendar year, with the exception that any Pacific bluefin tuna already on board a fishing vessel on the effective date of the notice may be retained on board and landed or transshipped within 14 days after the effective date published in the fishing closure notification, to the extent authorized by applicable laws and regulations.

(5) Announcement and effective dates of in-season actions. If in-season actions under paragraphs (g)(2) through (4) of this section are needed, NMFS will post a notice on the NMFS web page announcing the in-season action, including effective dates. NMFS will also send emails with notice of the in-season action to affected vessel owners. This action will also be published in the Federal Register as soon as practicable. The in-season action will be effective upon whichever is earlier: receipt by email of such notice or publication in the Federal Register.

(6) Reversal of in-season actions. If an in-season action taken under paragraphs (g)(2) through (5) of this section is based on an overestimate of actual catch, NMFS will reverse that action in the timeliest possible manner, provided NMFS finds that reversing that action is consistent with the management objectives for the affected species. The fishery will be subject to the change in trip limit or reopened effective on the date provided in the notice in accordance with paragraph (g)(5) of this section.

(7) State of California fish landing receipts. If landing Pacific bluefin tuna into the State of California, fish landing receipts must be submitted within 24 hours to the California Department of Fish and Wildlife in accordance with the requirements of applicable State regulations.

[FR Doc. 2025-07797 Filed 5-5-25; 8:45 am]

BILLING CODE 3510-22-P